ENVIRONMENTAL PROTECTION AGENCY

[FRL-7054-6]

Proposed Administrative Cashout Settlement Under Section 122(g) of the Comprehensive Environmental Response, Compensation, and Liability Act; in Re: Beede Waste Oil Superfund Site, Plaistow, NH

AGENCY: Environmental Protection Agency.

ACTION: Notice of proposed administrative settlement and request for public comment.

SUMMARY: In accordance with Section 122(i) of the Comprehensive Environmental Response, Compensation, and Liability Act, as amended, 42 U.S.C. 9622(i), notice is hereby given of a proposed administrative settlement for recovery of past and projected future response costs concerning the Beede Waste Oil Superfund Site in Plaistow, New Hampshire with the settling parties listed in the Supplementary Information portion of this notice. The U.S. Environmental Protection Agency—Region I (EPA) is proposing to enter into an early de minimis settlement agreement to address claims under the Comprehensive Environmental Response, Compensation and Liability Act of 1980, as amended (“CERCLA”), 42 U.S.C. 9601 et seq. Notice is being published to inform the public of the proposed settlement and of the opportunity to comment. This settlement, embodied in a CERCLA section 122(g) Administrative Order on Consent (“AOC”), is designed to resolve each settling party's liability at the Site for past work, past response costs and specified future work and response costs through covenants under sections 106 and 107 of CERCLA, 42 U.S.C. 9606 and 9607. The proposed AOC requires the settling parties listed in the Supplementary Information section below to pay an aggregate total of approximately $1,651,082.40. For thirty (30) days following the date of publication of this notice, the EPA will receive written comments relating to the settlement. The EPA will consider all comments received and may modify or withdraw its consent to the settlement if comments received disclose facts or considerations which indicate that the settlement is inappropriate, improper, or inadequate. The EPA's response to any comments received will be available for public inspection at the EPA Records Center, 1 Congress Street, Boston, MA 02114-2023 (Telephone Number: 617-918-1440).

DATE: Comments must be submitted on or before October 15, 2001.

ADDRESSES: The proposed settlement is available for public inspection at the EPA Records Center, 1 Congress Street, Boston, MA 02114-2023. Please call 617-918-1440 to schedule an appointment. A copy of the proposed settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-1-2001-0041 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: The following is a list of the approximately 493 settling parties, including settling federal agencies, to the proposed settlement: 3A Auto Service Inc., A.F. German Company Inc., A J's Inc., A.R. Belli Inc., A&M Service, Inc., ABC Bus Company, ABC Relocation Services, Acorn Motors Inc., AGFA Corporation, AL LI Service Center, Alden Buick Pontiac, Alden Research Laboratory, Allen Harbor Marine Service Inc., Allen Mello Dodge Inc., Allied Auto Parts Company Inc., AL-N Auto Repair, Alpha Oil Company Inc., Amesbury Machine, Anderson-Chrysler Plymouth, Andrews Gunite Company Inc., Arc Source Inc., Archers Mobil, Art's Texaco, Atlantic Equipment & Leasing, August A. Busch & Company of MA, Autolab, Inc., Automotive Service Plus, Inc., Automotive Supply Associates Inc. d/b/a Sanel Auto Parts, Avenue Motor Mart Garage, Inc., B & T Construction Corporation, B.L. Oglivie's & Sons, Inc.,

Babb Motors, Bailey's Service Station Inc., Baker Cadillac Oldsmobile, Inc., Baldarelli Bros., Ball Square Auto Repair, Barry Transport, Inc., Bartlett's Garage Inc., Bateson Enterprises Inc., Bay View Realty Trust, Beal Companies LLP, Bellingham Lumber, Bentons Inc. d/b/a Northgate Mobil, Bernardi's Inc., Bezema Buick, Biondis Service Center, Bixby International Company, Black Swamp Garage Inc., Blue Circle Inc., Blue Line Garage, Bob Bonsaint & Sons, Bob Graham Auto Sales and Service Inc., Bob Lucey's Service Station Inc., Bob's Auto Repair, Bob Mariano Pontiac Jeep Eagle, Inc., Bob's Truck & Auto Repair, G. Bonazzoli & Sons Inc., Bonfiglioli's Auto Service Inc., Bonnell Motors, Inc., Charles Booth, Boston Properties, Boston Thermo King, Boucher's Automotive Machine Shop Inc., Brewer Petroleum Service, Inc., Brick Ends Farm Inc., Brickstone Properties, Inc., Brigham Gill Motorcars Inc. d/b/a Brigham-Gill Jeep, British Petroleum Exploration & Gas, Brooks Machine & Equipment Company Inc., John Brown d/b/a J&K Auto,

Brown's Garage & Service Station Inc., Brox Industries, Bruce's Auto Service, Buddenhagaen Inc. d/b/a Wilson & Rand Service Station, Burt's Cycle Shop Inc., C&L Auto Repair and Parts Inc., C&R Tire Company Inc., C.C. Fillmore Truck Repair Inc., C.K. Smith & Company, Inc., Cambridge Landscape Company, Cambridge Street Auto Body, Cape Pond Ice Company, Inc., Carlos Auto Body, Catalano Bros Inc., Caterair International Corporation, Central Dodge Motors of Norwood,

Central Welding Company, Inc., Century Tire, Certified Foreign Repair, Chadwick-BaRoss, Charles River Laboratories, Inc., Charlie's Auto Body, Checkoway Oil Company d/b/a Holmes Tire, Chick Packaging, Inc., Christmas Motors, Inc., City of Chelsea, MA, City of Gardner, MA, City of Laconia, NH, City of Malden, MA, City of Medford, MA, City of Melrose, MA, City of Nashua, NH, City of Revere, MA, City of Worcester, MA, Clampa-All Corp., Clark & White Inc., Donald J. Clark, Coca-Cola Bottling of Lowell, Coca-Cola Bottling of Northern New England, Inc. (for Seacoast Coca-Cola Bottling Company), Collins Crane and Rigging Service Inc.,

Colonial Auto Body & Sales Company, Inc., Colvin's Inc., Compressed Air Systems, Concord-Carlisle Regional School District, Concordia, Inc., Congregational Retirement Homes, Inc., Coots Bros. Inc., Courier Westford Inc., Crystal Springs Golf, Inc., John P. Curley d/b/a Curley's Auto Repair, Custom Auto Repair, Inc., Custom Service Inc., Cypress Equipment Corp., D&R Auto Repairs d/b/a Helco Automotive, D&R General Contracting Inc., D&S Service Station, Inc., D.F. Clark Inc., Dalzell Motor Sales, Inc., Danversport Yacht Club, Davis Auto Electric, Deck House, Inc., Dedham Country Day School, Dedham Shell Inc. d/b/a Marshfield Auto Center/Pembroke Shell,

DeLoury Construction Company, Inc., Dennisport Mobil, DeVincent Associates Limited Partnership, Dick's Foreign Car Service, Distrigas of Massachusetts LLC, Don & Dave's Automotive Inc., Don Allen Auto Service Inc., Don Wheeler Construction, Inc., Donald F. Knowles, Inc., Don's Auto Repair, Don's Automotive, Doyle's Exxon Station, Draper Energy Co., Dror Village Inc. (for Village Shell), Duarte Motors Inc., Durand Chevrolet, Inc., E R Pickett Company Inc., East Coast Auto Sales, Eastern Propane Gas, Inc., Eastland Motor Service Corporation, Eddie Bailey's Garage, Inc., Ed's Service Center, Inc., Ed's Service Inc., Elie Investment Management Company d/b/a Groveland Getty, Emerson Auto Service Inc., Energy Retailers, Inc., Ernest T. Pappas d/b/a Central Ave. Auto Repair, European Car Doctors Inc.,

Excavating Enterprises, Inc., F B Rich & Sons, Inc., Falmouth Motor Car Co., Far East Automotive Services, Inc., Federal Furnace Cranberry, Fenway Texaco Inc., Ferry's Automotive Inc., Fidelity Sportwear Inc., James Filandrianos, Inc. d/b/a Oak Square Sunoco, First C.G.L.P., Fitchburg Colonial Aviation, Flatley Company, Foilmark Manufacturing Corp., Foreign Autopart, Inc. (n/k/a Autopart International, Inc.), Framingham Chrysler Plymouth, Inc., Framingham State College, Frazee Automotive Inc., Fred Hubbard's Gulf, Fredrickson Bros. Inc., Freeman Cycles, Inc., Furlong's Auto Repair, Galloway's Grocerette, Gaskell's Service Station & Muffler Shop, General Electric Company, George DeCoste & Sons Inc., Gerber Radio Supply d/b/a Gerber Electronics, Getov Machine Inc., Getty Properties Corporation, Ghasadafa, Inc. d/b/a Main Street Shell, Goldberg Energy Management, Gordon Conwell Thedoycs/Seminary

(Gordon Conwell Theological Seminary), Granite State Tire & Battery Co., Inc., Granz Inc., John Grappone Inc. d/b/a Grappone Ford, Grattan Line Construction Corporation, Gray Excavation, Inc., Great Road Dodge, Inc., Greenwood Fire Apparatus, Inc., Grossman Companies, Grota's Motors, Inc., R.S. Guerette Corporation, H.H. Snow & Sons, Inc., Hallamore Corporation, Hancock Village LLC, Hansen Marine Engineering, Inc., Harold Lunnin d/b/a Hap's Auto Service, Harborside Marine Service, Hargreaves Garage, Havencraft of New England, Haverhill Golf and Country Club, Henry J. Pleiss, Jr. d/b/a Hank's Garage, Hewlett Packard Company, High Street Service Inc., Highland Service

Center of Newton Inc., Hodgden-Noyes Buick-Pontiac GMC Truck Inc., Richard Willis Wheeler d/b/a Hudson Cycle Center, Inc., Hudson's Outboard Inc., Hy Test Oil Co., Inc., Ideal Tape Company (a division of American Biltrite Inc.), Imperia Corporation, Imports Limited Inc., Ingersoll Rand Company, Ipswich Outboard Motor & Boat Inc., Ira Korean Cars LLC d/b/a Ira Hyundai, J&M Santoian Realty Trust, J.A. Polito & Sons, Inc., J.R.A. Auto Repair, Inc., J.R. Service (n/k/a Dave's Automotive), J. Schwartz Motor Transportation Inc., J.J. Donovan & Sons, Inc., Jackson Lumber & Millwork Co., Inc., James R. Lee d/b/a Lee Auto Repair, James Russell Engineering Works, Inc., Jamieson Services Inc. d/b/a Concord Avenue

Mobil, Jefferson Rubber Works, Jefferson Service Station, Inc., Jiffy Lube International Inc. (for Pennzoil-Quaker State Company), Jiffy Lube International Inc., John T. Clark & Son of Boston, Inc., John's Auto Repair Service, Inc., Kagan's Service Station, Inc., KAO Infosystems Company, Kayem Foods Inc., Kingsley Orchard Realty Corp., Kinney's Garage, Inc., Kyle Equipment Company Inc., L. Knife & Son, Inc., LAB Motors Ltd., Lance Buick Pontiac-Cadillac, Landry Hire-A-Tool & Supply Co., Larry Palmer's Mobil, Lawless Chrysler Plymouth Inc., Lawrence Pumps, Inc., Lawrence Tank Inc., Lee Imported Cars, Inc., Leo J. Fiori &

Sons, Inc., Levis Realty, Liberty Chevrolet, Inc., Limbach Company, Litecontrol Corp., Londonderry Car Wash Inc. d/b/a Londonderry Car Care, Loomis Fargo & Co., Louie's Service Center, Magnolia Service Station, Mahoney Oil Company, Inc., Majestic Cars, Malio Auto Service, Malone Fence Co. Inc., Manley-Berenson Associates, Inc., Marblehead Municipal Light Department, Marine Services and Electronics Inc., Martel Welding & Sons, Inc., Martin Welding Northeast, Inc., Masconomet Regional School District, Mason Tanning Co., Mass Ave. Firestone, Inc., Mastria Buick Pontiac GMC Truck Company Inc., McGovern Auto, McKinney Artesian Well & Pump Supply, Inc., Mears Trust, Mecca Motors Inc., Mello's Service

Station, Merrimack Auto Center, Merrimack Street Garage, Inc., Ronald C. Meservey, Methuen Getty, Inc., Mibrock, Inc. d/b/a Brockton Midas Muffler & Brake Shop, Middlesex Auto Repair, Mihold Inc. d/b/a Fall River Midas Muffler & Brake Shop, Mike Mobil, Mike's Auto Repair, Mike's Garage, Miles River Sand & Gravel Inc., Miller Auto Service Inc., Miller's Garage, Milton Garage, Inc., Miman Inc. d/b/a Laconia Midas Muffler & Brake Shop, Mirak Chevrolet, Miriam Hospital, Mister Tire Inc.,

Modern Continental Construction Co., Inc., Modern Continental Equipment Co., Inc., Mongony Service Station, Donald E.W. Morgan, Jr. d/b/a Meadow Park Motors, Morton International, Inc., Motiva Enterprises LLC, Motor Mart Auto Sales, Inc., Moulton Company, Murray Hills Construction, Nardone Sand & Gravel Co., Nardone Sand & Gravel, Narragansett Bay Commission, Nashoba Valley Technical High School, Nault's Lincoln-Mercury Inc., New England Sealcoating Co., Inc., New Hampshire Electric Cooperative, Inc., New Hampshire Peterbilt Inc., Newman Service Station, Newtonville Exxon, Newtonville Sunoco Service Station, Inc., NHE Associates Inc. d/b/a Motor Town NAPA Auto Parts, Nick Dee Chevrolet, Inc., Nickerson Service

Center, Norlantic Diesel Inc., North Shore Recycled Fibers, Northeast Metropolitan Regional Vocational School District, Northland Willette Inc., Northshore Mall LP, Northwest Airlines, Inc., Norwood Central Gas & Repair Corp., Nyman Manufacturing Company Inc. (n/k/a Huhtamaki-East Providence, Inc.), Old Colony Regional Vocational Technical High School District, Otis Elevator Company (a subsidiary of United Technologies Corporation), Palmer's Garage, Inc., Paquette Service, Park Transportation Corporation, Inc., Paroto Equipment Company, Inc., Paul's Auto Service Inc., Peabody Auto Clinic, Pembroke Automotive Service, Inc., Pepsi-Cola Metropolitan Bottling Company Inc., Persons Concrete, Peter D. Dickman, Peter's Auto Repair, Inc., Petroleum Heat & Power Company Inc.,

Phillips & Lee Gulf Station Inc., Phillips Academy (Andover), Phill's Service & Auto Body, Pilgrim Screw Corporation, Pioneer Garage Company Inc., Plumb House Corporation, Plympton Sand & Gravel Corporation, Policy Well & Pump Company Inc., Powder Tech Associates, Inc., Powell Corporation, Power Equipment Company, George E. Power, Jr., Inc. d/b/a Johnny's Texaco Station, Previtt Oil Company, Inc., Process Cooling Systems Inc., PT Marine Inc. d/b/a Ryder Cove Boat Yard, Quest

Diagnostics Incorporated, Quincy Automatic Transmission, R&A Auto Service, R&R American Service Station Inc., R.C. Olsen Cadillac, Inc., R.E. Walters Inc., R.H. Long Motor Sales Company, R.M. Towing Company, RAB Old Right, Inc., Radford Trans, Inc., Ralph Mahoney & Sons Inc., Ralph's Truck Sales Inc., Rauseo's Auto Inc., Ray Plastic Inc., Read Sand & Gravel, Inc., Reading Municipal Light Department, Regal Motors, Regan & Stapleton Inc., Ricky Smith Pontiac, Inc., Rita M. Sherman, River Street Automotive Center, Robbie Fuels, Inc., Robert B. Our Company, Rollen Ltd. d/b/a Direct Tire and Auto Service,

James R. Rosencrantz & Sons, Inc., Rosenfeld Concrete Corporation, Route 38 Ltd. d/b/a Midas Muffler, Rowley Ready-Mix Inc., S. Benedetto Sons Inc., Sacco's, Saint Elizabeth's Medical Center of Boston, Inc., Salem and Beverly Water Supply Board, Salvadore Auto Exchange, Inc., Salvation Army Adult Rehabilitation Center, Saugus Heavy Equipment Repair, Inc., Sawin Motors Inc., Schmidt Equipment, Inc., Senter Brothers, Inc., Shawsheen Valley Technical High School, Shea Concrete Products, Inc., Shell Oil Company, Smith's Sales Inc., Sonny D. Construction, Inc., South Avenue Motors Inc., South Essex Sewerage District, South Shore Auto Parts Co., Inc., Speedy Lube Inc., Spir-it Inc., St. James Company LP, St. Joseph Hospital of Nashua, N.H., Standley's Garage, Inc., Star Auto Service, Star Fisheries Corporation, Starkey Ford, Stedt Hydraulic Crane Corp., Steve's Automotive, Stewie's Oil Inc., Sun

Transportation Inc., Sunoco Incorporated (R&M), Superior Auto Sales & Service, Swanson Pontiac Buick GMC, Truck Inc., Sylvester A. Ray Inc., T.E. Andresen, Inc., Tate Bros. Paving Co., Inc., Tate's Garage, Ted's Farm Equipment Inc., The Doctor Inc., Thomas Glaser d/b/a Automotion, Thorny Lea Golf Club, Inc., Timberlane Regional School District, Tire Specialist, Inc., Tom Chevrolet, Inc., Tommy Jenkins, Inc., Toothakers Service Station, Torres Service Station, Town of Arlington, MA, Town of Belmont, MA, Town of Essex, MA, Town of

Framingham, MA, Town of Halifax, MA, Town of Holden, MA, Town of Hopedale, MA, Town of Hull, MA, Town of Manchester-by-the-Sea, MA, Town of Merrimac, MA, Town of Middleton, MA, Town of North Reading, MA, Town of Pembroke, MA, Town of Rye, NH, Town of Sandwich, MA, Town of South Easton, MA, Town of Stoneham, MA, Town of Topsfield, MA, Town of Watertown, MA, Town of Weston, MA, Town of Winthrop, MA, Trailblazer Kawasaki Inc. and Trailsport Cycles Inc. d/b/a North Reading Honda Kawasaki, Triangle Transmission & Brake, Truckers Maintenance Service, TruGreen Limited Partnership, TruGreen LP, Tucker's Auto Supply Inc., Tully Buick Pontiac Company, Inc. d/b/a Tully Buick et al., Tuxbury's

Garage, Uhlman Excavating Co., Umbro and Sons Construction Company, Union Ave. Automotive (f/k/a Union Avenue Esso & Union Avenue Exxon), Union Coal & Oil Co. Inc., United Airlines Inc., United States Army Reserve (Marine Corps), United States Department of the Interior (for Parker River NWR, Cape Cod NS, National Park Serv.(Lowell), Lowell NHP, Cape Cod NS), UTEC Constructors Inc., Valu-Ent Inc. d/b/a Webnik Motors, Village Garage/Lee F. Mainhold, Volpone Towing Services, Inc., Walsh's Garage, Waltham Central School Transportation Inc., Washington Mills Transport Corporation, Waugh's Inc., Waverley Square Service, Inc., Wayne & Company, Inc., Wheels Corporation d/b/a Bud's Sunoco, Whitehall Company, LTD., John M. Wilkes d/b/a Wilkes Mobil, Willwerth Enterprises, Inc., Wilmington Cold Storage Inc., Winco Inc., William Wooding d/b/a Wooding's Garage, Woodside Corporation, Woodville Service, WWF Paper Corporation New England, and Yankee Pine Corporation.

In accordance with the Comprehensive Environmental Response, Compensation and Liability Act of 1980, as amended (CERCLA), 42 U.S.C. 9601 et seq., notice is hereby given of a proposed early de minimis settlement agreement under section 122(g) of CERCLA concerning the Beede Waste Oil Superfund Site in Plaistow, NH. The settlement was approved by EPA Region I, subject to review by the public pursuant to this Notice.

The proposed settlement has been approved by the United States Department of Justice. EPA will receive written comments relating to this settlement for thirty (30) days from the date of publication of this Notice.

Dated: September 4, 2001.
Patricia L. Meaney,
Director, Office of Site Remediation and Restoration, EPA—Region I.

[FR Doc. 01-22909 Filed 9-12-01; 8:45 am]

BILLING CODE 6560-50-P